DEPARTMENT OF ENERGY

Federal Energy Regulatory Commission

[Docket No. RP03-323-000]

Williston Basin Interstate Pipeline Company; Notice of Proposed Changes in FERC Gas Tariff

April 3, 2003.

Take notice that on March 31, 2003, Williston Basin Interstate Pipeline Company (Williston Basin or Company), tendered for filing as part of its FERC Gas Tariff, Second Revised Volume No. 1, the revised tariff sheets listed on Appendix A to the filing, with a proposed effective date of May 1, 2003.

Williston Basin states that the revised tariff sheets will give Williston Basin the ability to negotiate rates as provided in the Commission's January 31, 1996 Statement of Policy in Docket Nos. RM95-6-000 and RM96-7-000.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2003.

Magalie R. Salas,
Secretary.

[FR Doc. 03-8779 Filed 4-9-03; 8:45 am]

BILLING CODE 6717-01-P